DEPARTMENT OF COMMERCE

National Oceanic and Atmospheric Administration

[I.D. 101201B]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Monkfish Oversight and Skate Oversight Committees in November 2001 to consider actions affecting New England fisheries in the exclusive economic zone (EEZ). Recommendations from these groups will be brought to the full Council for formal consideration and action, if appropriate.

DATES: The meetings will be held on November 5, 2001. The Monkfish Oversight Committee will meet at 9:30 a.m. The Skate Oversight Committee will meet from 6 p.m. to 8 p.m.

ADDRESSES: The meetings will be held at the King’s Grant Inn, Trask Road, Route 128, Danvers, MA 01923; telephone: (978) 774-6800.

Council address: New England Fishery Management Council, 50 Water Street, Mill 2, Newburyport, MA 01950.

FOR FURTHER INFORMATION CONTACT: Paul J. Howard, Executive Director, New England Fishery Management Council; (978) 465-0492.

SUPPLEMENTARY INFORMATION: Meeting Agendas The Monkfish Oversight Committee will review the Stock Assessment and Fishery Evaluation (SAFE) Report for 2000, incorporating the Monkfish Monitoring Committee Report. Based on this review, the committee will develop recommendations to the Council for adjustments to the Monkfish Fishery Management Plan (FMP) for the 2002 fishing year, in accordance with the framework adjustment procedures in the FMP. Options under consideration include, but are not limited to: taking no action and allowing the Year 4 default measures to take effect (eliminating the directed fishery); postponing for one year the Year 4 default measures and adjusting trip limits to achieve current landings levels after accounting for the effect of the recent court decision eliminating gear-based differential trip limits; and, adjusting management measures to reduce catches to the Years 2 and 3 total allowable catch (TAC) targets. The committee will also develop recommendations to the Council for research priorities under cooperative programs with the industry. At the end of the meeting the committee will hold a closed session to review applications and make recommendations for membership on the Monkfish Advisory Panel.

The Skate Oversight Committee will review guidance on skate overfishing definitions from the Council’s Scientific and Statistical Committee and the Skate Plan Development Team. They will also develop recommendations as to which overfishing definition alternatives should be fully analyzed for the Draft Environmental Impact Statement (DEIS) and public hearing document. They will also review a timeline for DEIS development.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: October 15, 2001.
Richard W. Surdi,
Acting Director, Office of Sustainable Fisheries, National Marine Fisheries Service.

[FR Doc. 01-26457 Filed 10-18-01; 8:45 am]

BILLING CODE 3510-22-S